DEPARTMENT OF COMMERCE

National Oceanic and Atmospheric Administration

50 CFR Part 660

[Docket No. 090428799-9802-01]

RIN 0648-XQ39

Fisheries Off West Coast States; Pacific Coast Groundfish Fishery; Closure of the Primary Pacific Whiting Season for the Shore-Based Sector

AGENCY: National Marine Fisheries Service (NMFS), National Oceanic and Atmospheric Administration (NOAA), Commerce.

ACTION: Fishing closure restrictions.

SUMMARY: NMFS announces the closure of the primary season for the Pacific whiting fishery for the shore-based sector at 10 a.m. local time (l.t.) July 7, 2009. This action is authorized by regulations implementing the Pacific Coast Groundfish Fishery Management Plan (FMP), which governs the groundfish fishery off Washington, Oregon, and California. This action is intended to keep the harvest of Pacific whiting at the 2009 allocation levels.

DATES: Effective from 10 a.m. l.t. July 7, 2009, until the start of the 2010 primary season for the shore-based sector, unless modified, superseded or rescinded by notification in the Federal Register.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. Regulations at 50 CFR 660.323(a) established separate allocations for the catcher/processor, mothership, and shore-based sectors of the Pacific whiting fishery. The 2009 Optimum Yield (OY) for Pacific whiting is 135,939 mt. The 2009 commercial OY is 81,939 mt. The commercial OY is calculated by deducting the 50,000-mt tribal set-aside and 4,000-mt for research catch and bycatch in non-groundfish fisheries from the 135,939 mt total catch OY. Each sector receives a portion of the commercial OY, with the catcher/processors getting 34 percent (27,859 mt), motherships getting 24 percent (19,665 mt), and the shore-based sector getting 42 percent (34,414 mt). When each sector's allocation is reached, the primary season for that sector is ended.

If the Regional Administrator determines that a portion of the tribal set aside or another sector's allocation will not be used during the year, regulations at 50 CFR 660.323(c) allow the Regional Administrator to reapportion that Pacific whiting to other sectors in proportion to their initial allocations. At the Pacific Fishery Management Council's March 2009 meeting, the Makah Tribal representatives stated their intent to harvest only 23,789 mt of their 42,000 mt set aside and asked that the remaining 18,211 mt be reapportioned to the non-tribal sectors of the fishery. Therefore, the shore-based sector received an additional 7,649 mt, resulting in a harvest guideline of 42,063 mt.

The shore-based sector is composed of vessels that harvest Pacific whiting for delivery to land-based processors. The primary season for the shore-based sector is the period or periods when the large-scale target fishery is conducted, and when “per trip” limits are not in effect for vessels targeting Pacific whiting with mid-water gear.

The best available information on July 6, 2009 indicated that 32,933 mt of Pacific whiting had been taken through July 3, 2009, and the 42,063 mt allocation for the shore-based sector would be reached by 10 a.m. on July 7, 2009. This Federal Register notice announces the date that the primary season for the shore-based sector was ended. Regulations at 50 CFR 660.323(b)(4) allow this action to be taken. To prevent an allocation from being exceeded, regulations at 50 CFR 660.323(e) allow closure of the commercial Pacific whiting fisheries by actual notice to the fishery participants. Actual notice includes e-mail, internet, phone, fax, letter or press release. NMFS provided actual notice by e-mail and fax on July 6, 2009.

NMFS Action

This document announces achievement of the shore-based sector allocation specified at 50 CFR 660.323(a) and in the final rule published on May 5, 2009 (74 FR 20620). The best available information on July 6, 2009, indicated that 32,933 mt of Pacific whiting had been taken through July 3, 2009 and that the shore-based allocation would be reached by 10 a.m. on July 7, 2009. For the reasons stated here and in accordance with the regulations at 50 CFR 660.323(b)(4), NMFS herein announces: Effective 10 a.m. July 7, 2009 the Pacific whiting shoreside fishery was closed.

Classification

This action is authorized by the regulations implementing the groundfish FMP. The determination to take this action was based on the most recent data available. The aggregate data upon which the determinations were based are available for public inspection at the office of the Regional Administrator (see ADDRESSES) during business hours.

The Assistant Administrator for Fisheries (AA), NMFS, finds good cause to waive the requirement to provide prior notice and opportunity for comment on this action pursuant to 5 U.S.C. 553(3)(b)(B), because providing prior notice and opportunity would be impracticable. It would be impracticable because if this restriction were delayed in order to provide notice and comment, it would allow the allocation for the shore-based sector to be exceeded, which would either reduce the amount available to the catcher/processor sector or cause the OY to be exceeded.

A delay to provide a cooling off period also would be expected to cause the fishery to exceed its allocation. Therefore, good cause also exists to waive the 30-day delay in effectiveness requirement of 5 U.S.C. 553(d)(3).

This action is taken under the authority of 50 CFR 660.323(b)(4), and is exempt from review under Executive Order 12866.

Authority: 16 U.S.C. 1801 et seq.

Dated: July 22, 2009.
James P. Burgess,
Acting Director, Office of Sustainable Fisheries, National Marine Fisheries Service.

[FR Doc. E9-17930 Filed 7-27-09; 8:45 am]

BILLING CODE 3510-22-S